Proclamation 7348 of September 29, 2000

National Domestic Violence Awareness Month, 2000

By the President of the United States of America

A Proclamation

Domestic violence transcends all ethnic, racial, and socioeconomic boundaries. Its perpetrators abuse their victims both physically and mentally, and the effects of their attacks are far-reaching—weakening the very core of our communities. Domestic violence is particularly devastating because it so often occurs in the privacy of the home, which is meant to be a place of shelter and security. During the month of October, all Americans should contemplate the scars that domestic violence leaves on our society and what each of us can do to prevent it.

Because domestic violence usually takes place in private, many Americans may not realize how widespread it is. According to the National Violence Against Women Survey, conducted jointly by the Centers for Disease Control and Prevention and the National Institute of Justice, each year in the United States approximately 1.5 million women are raped and/or physically assaulted by their current or former husbands, partners, or boyfriends. Many of these women are victimized more than once over the course of a year. As unsettling as these statistics are, it is also disturbing to realize that the children of battered women frequently witness these attacks, thus becoming victims themselves.

My Administration has worked hard to reduce domestic violence in our Nation and to assist victims and their families. The cornerstone of our efforts has been the Violence Against Women Act (VAWA), which the Congress passed with bipartisan support in 1994 and which I signed into law as part of our comprehensive crime control bill. This important piece of legislation, which contains a broad array of ground-breaking measures to combat violence against women, combines tough penalties with programs to prosecute offenders and provide assistance to women who are survivors of violence.

In the 6 years since I signed VAWA into law, the legislation has provided more than $1.6 billion to support prosecutors, law enforcement officials, courts, victim advocates, and intervention efforts. We have quadrupled funding for battered women's shelters, created the National Domestic Violence Hotline, and supported community outreach and prevention programs, children's counseling, and child protection services. The Department of Justice has awarded more than 900 discretionary grants and 280 STOP (Services, Training, Officers, Prosecutors) Violence Against Women formula grants to help State, tribal, and local governments and community-based organizations establish specialized domestic violence and sexual assault units, train personnel, enforce laws, develop policies, assist victims of violence, and hold abusers accountable.

These VAWA programs are making a difference across the country. A recent report by the Bureau of Justice Statistics shows that the number of women experiencing violence at the hands of an intimate partner declined 21 percent from 1993 to 1998. I call on the Congress to reauthorize and strengthen VAWA so that we may continue to build on the progress we have made in combating domestic violence in our Nation.

Through VAWA and other initiatives and programs, we are striving to create a responsive legal system in American communities that not only prevents domestic violence and sexual assault, but also ensures that every victim has immediate access to helpful information and emergency assistance. By taking strong public action against this crime, we are creating a society that promotes strong values, fosters a safe, loving home environment for every family, and refuses to tolerate domestic violence in any form.

NOW, THEREFORE, I, WILLIAM J. CLINTON, President of the United States of America, by virtue of the authority vested in me by the Constitution and laws of the United States, do hereby proclaim October 2000 as National Domestic Violence Awareness Month. I call upon government officials, law enforcement agencies, health professionals, educators, community leaders, and the American people to join together to end the domestic violence that threatens so many of our people.

IN WITNESS WHEREOF, I have hereunto set my hand this twenty-ninth day of September, in the year of our Lord two thousand, and of the Independence of the United States of America the two hundred and twenty-fifth.

wj

[FR Doc. 00-25675

Filed 10-3-00; 8:45 am]

Billing code 3195-01-P